DEPARTMENT OF THE TREASURY

Office of Foreign Assets Control

31 CFR Part 591

Publication of Venezuela Sanctions Regulations Web General Licenses 19, 20, 21, 22, and Subsequent Iterations

AGENCY: Office of Foreign Assets Control, Treasury.

ACTION: Publication of web general licenses.

SUMMARY: The Department of the Treasury's Office of Foreign Assets Control (OFAC) is publishing six general licenses (GLs) issued in the Venezuela Sanctions program: GLs 19, 20, 20A, 20B, 21, and 22, each of which was previously made available on OFAC's website.

DATES: GLs 19 and 20 were issued on April 17, 2019. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On April 17, 2019, OFAC issued GLs 19 and 20 to authorize certain transactions otherwise prohibited by Executive Order (E.O.) 13850 of November 1, 2018, “Blocking Property of Additional Persons Contributing to the Situation in Venezuela” (83 FR 55243, November 2, 2018). GL 19 expired on May 17, 2019. Subsequently, OFAC issued two further iterations of GL 20: on August 5, 2019, OFAC issued GL 20A, which superseded GL 20 and authorized certain transactions otherwise prohibited by E.O. 13850 and E.O. 13884 of August 5, 2019, “Blocking Property of the Government of Venezuela” (84 FR 38843, August 7, 2019); and on January 21, 2020, OFAC issued GL 20B, which superseded GL 20A. On August 5, 2019, OFAC also issued GL 21 to authorize transactions otherwise prohibited by E.O.s 13850 and 13884 and GL 22, to authorize transactions otherwise prohibited by E.O. 13884.

Each GL was made available on OFAC's website (www.treas.gov/ofac) when it was issued. The text of these GLs is provided below.

OFFICE OF FOREIGN ASSETS CONTROL

Executive Order 13850 of November 1, 2018

Blocking Property of Additional Persons Contributing to the Situation in Venezuela

GENERAL LICENSE NO. 19

Authorizing Certain Activities Necessary to the Wind Down of Operations or Existing Contracts Involving Banco Central de Venezuela

(a) Except as provided in paragraph (b) of this general license, all transactions and activities prohibited by Executive Order (E.O.) 13850, as amended by E.O. 13857 of January 25, 2019 (“Taking Additional Steps to Address the National Emergency With Respect to Venezuela”), that are ordinarily incident and necessary to the wind down of operations, contracts, or other agreements involving Banco Central de Venezuela that were in effect prior to April 17, 2019, are authorized through 12:01 a.m. eastern daylight time, May 17, 2019.

(b) This general license does not authorize:

(1) Any debit to an account of Banco Central de Venezuela on the books of a U.S. financial institution; or

(2) Any transactions or dealings otherwise prohibited by E.O. 13850, E.O. 13835 of May 21, 2018, E.O. 13827 of March 19, 2018, E.O. 13808 of August 24, 2017, E.O. 13692 of March 8, 2015, each as amended by E.O. 13857, or any part of 31 CFR chapter V, or any transactions or dealings with any blocked person other than Banco Central de Venezuela.

Andrea Gacki,

Director, Office of Foreign Assets Control.

Dated: April 17, 2019.

OFFICE OF FOREIGN ASSETS CONTROL

Executive Order 13850 of November 1, 2018

Blocking Property of Additional Persons Contributing to the Situation in Venezuela

GENERAL LICENSE NO. 20

Authorizing Official Activities of Certain International Organizations Involving Banco Central de Venezuela

(a) Except as provided in paragraph (c) of this general license, all transactions and activities prohibited by Executive Order (E.O.) 13850, as amended by E.O. 13857 of January 25, 2019 (“Taking Additional Steps to Address the National Emergency With Respect to Venezuela”) (E.O. 13850), that are for the official business of the following entities are authorized:

• CAF Development Bank of Latin America

• Fondo Latinoamericano de Reservas

• Inter-American Development Bank

• International Committee of the Red Cross

• International Federation of the Red Cross and Red Crescent Societies

• International Monetary Fund

• Organization of American States

• United Nations and its specialized agencies, programs, funds, and related organizations

• World Bank

(b) This authorization automatically renews on the first day of each month, and is valid for a period of 18 months from the effective date of General License No. 20 or the date of any subsequent renewal of General License No. 20, whichever is later.

(c) This general license does not authorize:

(1) The unblocking of any property blocked pursuant to E.O. 13850, or any part of 31 CFR chapter V, except as authorized by paragraph (a); or

(2) Any transactions or dealings otherwise prohibited by E.O. 13850, E.O. 13835 of May 21, 2018, E.O. 13827 of March 19, 2018, E.O. 13808 of August 24, 2017, E.O. 13692 of March 8, 2015, each as amended by E.O. 13857, or any part of 31 CFR chapter V, or any transactions or dealings with any blocked person other than Banco Central de Venezuela.

Andrea Gacki,

Director, Office of Foreign Assets Control.

Dated: April 17, 2019.

OFFICE OF FOREIGN ASSETS CONTROL

Executive Order 13850 of November 1, 2018

Blocking Property of Additional Persons Contributing to the Situation in Venezuela

Executive Order of August 5, 2019

Blocking Property of the Government of Venezuela

GENERAL LICENSE NO. 20A

Authorizing Official Activities of Certain International Organizations Involving the Government of Venezuela

(a) Except as provided in paragraph (c) of this general license, all transactions and activities prohibited by Executive Order (E.O.) 13850, as amended by E.O. 13857 of January 25, 2019, involving Banco Central de Venezuela, or E.O. of August 5, 2019 involving the Government of Venezuela, that are for the official business of the following entities are authorized:

• Corporación Andina de Fomento (CAF)

• Fondo Latinoamericano de Reservas

• Inter-American Development Bank

• International Committee of the Red Cross

• International Federation of the Red Cross and Red Crescent Societies

• Organization of American States, and its specialized organizations, other autonomous and decentralized organs, agencies, entities, and dependencies

• United Nations, including its Programmes and Funds, and its Specialized Agencies and Related Organizations, including those entities specifically listed separately below:

○ World Bank

○ IMF (International Monetary Fund)

○ FAO (UN Food and Agriculture Organization)

○ IOM (International Organization for Migration)

○ OCHA (UN Office for the Coordination of Humanitarian Affairs)

○ OHCHR (UN Office of the United Nations High Commissioner for Human Rights)

○ UN Habitat

○ UNDP (UN Development Program)

○ UNFPA (UN Population Fund)

○ UNHCR (Office of the UN High Commissioner for Refugees)

○ UNICEF (UN Children's Fund)

○ WFP (World Food Program)

○ The World Health Organization (WHO), including the Pan-American Health Organization (PAHO)

Note 1 to paragraph (a): The authorization in paragraph (a) of this general license authorizes transactions involving Banco Central de Venezuela, or involving other Government of Venezuela persons that are blocked solely pursuant to E.O. of August 5, 2019.

Note 2 to paragraph (a): For an organizational chart of the United Nations and its specialized agencies and related organizations, see the following page on the United Nations website: http://www.unsceb.org/directory.

(b) This authorization automatically renews on the first day of each month, and is valid for a period of 18 months from the effective date of General License No. 20A or the date of any subsequent renewal of General License No. 20A, whichever is later.

(c) This general license does not authorize:

(1) The unblocking of any property blocked pursuant to E.O. of August 5, 2019, or E.O. 13850, as amended, or any part of 31 CFR chapter V, except as authorized by paragraph (a); or

(2) Any transactions or dealings otherwise prohibited by E.O. of August 5, 2019, or E.O. 13850, E.O. 13835 of May 21, 2018, E.O. 13827 of March 19, 2018, E.O. 13808 of August 24, 2017, or E.O. 13692 of March 8, 2015, each as amended by E.O. 13857, or any part of 31 CFR chapter V, or any transactions or dealings with any blocked person other than Banco Central de Venezuela, or any other Government of Venezuela person that is blocked solely pursuant to E.O. of August 5, 2019.

(c) Effective August 5, 2019, General License No. 20, dated April 17, 2019, is replaced and superseded in its entirety by this General License No. 20A.

Andrea Gacki,

Director, Office of Foreign Assets Control.

Dated: August 5, 2019.

OFFICE OF FOREIGN ASSETS CONTROL

Executive Order 13850 of November 1, 2018

Blocking Property of Additional Persons Contributing to the Situation in Venezuela

Executive Order 13884 of August 5, 2019

Blocking Property of the Government of Venezuela

GENERAL LICENSE NO. 20B

Authorizing Official Activities of Certain International Organizations Involving the Government of Venezuela

(a) Except as provided in paragraph (c) of this general license, all transactions and activities prohibited by Executive Order (E.O.) 13850, as amended by E.O. 13857 of January 25, 2019, involving Banco Central de Venezuela, or E.O. 13884 involving the Government of Venezuela, that are for the official business of the following entities are authorized:

• Corporación Andina de Fomento (CAF)

• Fondo Latinoamericano de Reservas

• Inter-American Development Bank

• International Committee of the Red Cross

• International Federation of the Red Cross and Red Crescent Societies

• Organization of American States, and its specialized organizations, other autonomous and decentralized organs, agencies, entities, and dependencies

• The World Bank Group (also referred to as the World Bank), including the International Bank for Reconstruction and Development (IBRD), International Development Association (IDA), International Finance Corporation (IFC), Multilateral Investment Guarantee Agency (MIGA), and International Centre for Settlement of Investment Disputes (ICSID)

• United Nations, including its Programmes and Funds, and its Specialized Agencies and Related Organizations, including those entities specifically listed separately below:

○ IMF (International Monetary Fund)

○ FAO (UN Food and Agriculture Organization)

○ IOM (International Organization for Migration)

○ OCHA (UN Office for the Coordination of Humanitarian Affairs)

○ OHCHR (UN Office of the United Nations High Commissioner for Human Rights)

○ UN Habitat

○ UNDP (UN Development Program)

○ UNFPA (UN Population Fund)

○ UNHCR (Office of the UN High Commissioner for Refugees)

○ UNICEF (UN Children's Fund)

○ WFP (World Food Program)

○ The World Health Organization (WHO), including the Pan-American Health Organization (PAHO)

Note 1 to paragraph (a): The authorization in paragraph (a) of this general license authorizes transactions involving Banco Central de Venezuela, or involving other Government of Venezuela persons that are blocked solely pursuant to E.O. 13884.

Note 2 to paragraph (a): For an organizational chart of the United Nations and its specialized agencies and related organizations, see the following page on the United Nations website: http://www.unsceb.org/directory.

(b) This authorization automatically renews on the first day of each month, and is valid for a period of 18 months from the effective date of General License No. 20B or the date of any subsequent renewal of General License No. 20B, whichever is later.

(c) This general license does not authorize:

(1) The unblocking of any property blocked pursuant to E.O. 13884, or E.O. 13850, as amended, or any part of 31 CFR chapter V, except as authorized by paragraph (a); or

(2) Any transactions or dealings otherwise prohibited by E.O. 13884, or E.O. 13850, E.O. 13835 of May 21, 2018, E.O. 13827 of March 19, 2018, E.O. 13808 of August 24, 2017, or E.O. 13692 of March 8, 2015, each as amended by E.O. 13857, or any part of 31 CFR chapter V, or any transactions or dealings with any blocked person other than Banco Central de Venezuela, or any other Government of Venezuela person that is blocked solely pursuant to E.O. 13884.

(c) Effective January 21, 2020, General License No. 20A, dated August 5, 2019, is replaced and superseded in its entirety by this General License No. 20B.

Andrea Gacki,

Director, Office of Foreign Assets Control.

Dated: January 21, 2020.

OFFICE OF FOREIGN ASSETS CONTROL

Executive Order 13850 of November 1, 2018

Blocking Property of Additional Persons Contributing to the Situation in Venezuela

Executive Order of August 5, 2019

Blocking Property of the Government of Venezuela

GENERAL LICENSE NO. 21

Entries in Certain Accounts for Normal Service Charges and Payments and Transfers to Blocked Accounts in U.S. Financial Institutions Authorized

(a) Except as provided in provided in paragraph (d), a U.S. financial institution is authorized to debit any account blocked pursuant to Executive Order (E.O.) of August 5, 2019 or E.O. 13850, as amended by E.O. 13857 of January 25, 2019, held at that financial institution in payment or reimbursement for normal service charges owed it by the owner of that blocked account.

(b) As used in this general license, the term normal service charges shall include charges in payment or reimbursement for interest due; cable, telegraph, internet, or telephone charges; postage costs; custody fees; small adjustment charges to correct bookkeeping errors; and, but not by way of limitation, minimum balance charges, notary and protest fees, and charges for reference books, photocopies, credit reports, transcripts of statements, registered mail, insurance, stationery and supplies, and other similar items.

(c) Except as provided in paragraph (d), any payment of funds or transfer of credit in which a person whose property and interests in property are blocked pursuant to E.O. of August 5, 2019 or E.O. 13850, as amended, has any interest that comes within the possession or control of a U.S. financial institution must be blocked in an account on the books of that financial institution. A transfer of funds or credit by a U.S. financial institution between blocked accounts in its branches or offices is authorized, provided that no transfer is made from an account within the United States to an account held outside the United States, and further provided that a transfer from a blocked account may be made only to another blocked account held in the same name.

(d) This general license does not authorize any transaction that is otherwise prohibited by E.O. of August 5, 2019, or E.O. 13850, E.O. 13835 of May 21, 2018, E.O. 13827 of March 19, 2018, E.O. 13808 of August 24, 2017, or E.O. 13692 of March 8, 2015, each as amended by E.O. 13857, or any part of 31 CFR chapter V.

Andrea Gacki,

Director, Office of Foreign Assets Control.

Dated: August 5, 2019.

OFFICE OF FOREIGN ASSETS CONTROL

Executive Order of August 5, 2019

Blocking Property of the Government of Venezuela

GENERAL LICENSE NO. 22

Venezuela's Mission to the United Nations

(a) Except as provided in paragraph (c), the provision of goods or services in the United States to Venezuela's mission to the United Nations and payment for such goods or services are authorized, provided that:

(1) The goods or services are for the conduct of the official business of the mission, or for personal use of staff members of the mission, their families, or persons forming part of their household, and are not for resale;

(2) The transaction does not involve the purchase, sale, financing, or refinancing of real property; and

(3) The transaction is not otherwise prohibited by law.

Note to paragraph (a): U.S. financial institutions are required to obtain specific licenses to operate accounts for, or extend credit to, the mission of the Government of Venezuela to the United Nations.

(b) Except as provided in paragraph (c), the provision of goods or services in the United States to staff members of Venezuela's mission to the United Nations, and payment for such goods or services are authorized, provided that:

(1) The goods or services are for personal use of the staff members of the mission; and

(2) The transaction is not otherwise prohibited by law.

(c) This general license does not authorize:

(1) Any transfer of any property to the Government of Venezuela, or any other person whose property and interests in property are blocked pursuant to Executive Order (E.O.) of August 5, 2019, other than Venezuela's mission to the United Nations in the United States;

(2) Any transactions or dealings prohibited by any part of 31 CFR chapter V other than part 591;

(3) Any debit to a blocked account of the Government of Venezuela on the books of a U.S. financial institution; or

(4) Any transaction that is otherwise prohibited by E.O. of August 5, 2019, or E.O. 13850 of November 1, 2018, E.O. 13835 of May 21, 2018, E.O. 13827 of March 19, 2018, E.O. 13808 of August 24, 2017, or E.O. 13692 of March 8, 2015, each as amended by E.O. 13857 of January 25, 2019, or any part of 31 CFR chapter V.

Andrea Gacki,

Director, Office of Foreign Assets Control.

Dated: August 5, 2019.

Andrea M. Gacki,
Director, Office of Foreign Assets Control.

[FR Doc. 2023-04360 Filed 3-1-23; 8:45 am]

BILLING CODE 4810-AL-P